FEDERAL COMMUNICATIONS COMMISSION

47 CFR Part 73

[DA 00-2482; MM Docket No. 00-222, RM-10002; MM Docket No. 00-223, RM-10003; MM Docket No. 00-224, RM-10004; MM Docket No. 00-225, RM-10005]

Radio Broadcasting Services; North English, IA; Pendleton, SC; Hamilton, TX; Munday, TX

AGENCY: Federal Communications Commission.

ACTION: Proposed rule.

SUMMARY: This document proposes four new allotments to North English, IA; Pendleton, SC; Hamilton, TX; and Munday, TX. The Commission requests comments on a petition filed by Iowa-Keokuk Radio (Russell Johnson, sole proprietor) proposing the allotment of Channel 246A at North English, Iowa, as the community's first local aural transmission service. Channel 246A can be allotted to North English in compliance with the Commission's minimum distance separation requirements with a site restriction of 7.7 kilometers (4.8 miles) southwest of city reference coordinates. The coordinates for Channel 246A at North English are 41-27-15 North Latitude and 92-07-21 West Longitude. See SUPPLEMENTARY INFORMATION.

DATES: Comments must be filed on or before December 26, 2000, and reply comments on or before January 10, 2000.

ADDRESSES: Federal Communications Commission, Washington, DC 20554. In addition to filing comments with the FCC, interested parties should serve the petitioner, his counsel, or consultant, as follows: Russell G. Johnson, Iowa-Keokuk Radio, 1240 Loomis Ave., Des Moines, Iowa 50315 (Petitioner for the North English, IA proposal); H. David Hedrick, P.O. Box 27, 317 Stonegables Ct., Gray, GA 31032 (Petitioner for the Pendleton, SC proposal); Stargazer Broadcasting, Inc., P.O. Box 519, Woodville, TX 759779 (Petitioner for the Hamilton, TX proposal); and Wm. Brett Richardson and Robert Lewis Thompson, Thiemann Aitken & Vohra, L.L.C., 908 King Street, Suite 300, Alexandria, VA 22314 (Counsel for MAREE Communications).

FOR FURTHER INFORMATION CONTACT: R. Barthen Gorman, Mass Media Bureau, (202) 418-2180.

SUPPLEMENTARY INFORMATION: This is a synopsis of the Commission's Notice of Proposed Rule Making, MM Docket No. 00-222; MM Docket No. 00-223; MM Docket No. 00-224; and MM Docket No. 00-225, adopted October 25, 2000, and released November 3, 2000. The full text of this Commission decision is available for inspection and copying during normal business hours in the FCC Reference Information Center (Room CY-A257), 445 12th Street, SW, Washington, DC. The complete text of this decision may also be purchased from the Commission's copy contractor, International Transcription Service, Inc., (202) 857-3800, 1231 20th Street, NW, Washington, DC 20036.

The Commission requests comments on a petition filed by H. David Hedrick proposing the allotment of Channel 240A at Pendleton, South Carolina, as the community's first local FM aural transmission service. Channel 240A can be allotted to Pendleton in compliance with the Commission's minimum distance separation requirements at city reference coordinates. The coordinates for Channel 240A at Pendleton are 34-38-49 North Latitude and 82-46-37 West Longitude.

The Commission requests comments on a petition filed by Stargazer Broadcasting, Inc. proposing the allotment of Channel 299A at Hamilton, Texas, as the community's second local aural transmission service. Channel 299A can be allotted to Hamilton in compliance with the Commission's minimum distance separation requirements with a site restriction of 11.4 kilometers (7.1 miles) northwest of city reference coordinates. The coordinates for Channel 299A at Hamilton are 31-46-54 North Latitude and 98-12-08 West Longitude.

The Commission requests comments on a petition filed by MAREE Communications proposing the allotment of Channel 270C1 at Munday, Texas, as the community's first local aural transmission service. Channel 270C1 can be allotted to Munday in compliance with the Commission's minimum distance separation requirements with a site restriction of 25 kilometers (15.5 miles) northwest of city reference coordinates. The coordinates for Channel 270C1 at Munday are 33-37-48 North Latitude and 99-46-57 West Longitude.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio broadcasting.

For the reasons discussed in the preamble, the Federal Communications Commission proposes to amend 47 CFR Part 73 as follows:

PART 73—RADIO BROADCAST SERVICES

1. The authority citation for part 73 continues to read as follows:

Authority: 47 U.S.C. 154, 303, 334 and 336.

§ 73.202 [Amended]

2. Section 73.202(b), the Table of FM Allotments under Iowa, is amended by adding North English, Channel 246A.

3. Section 73.202(b), the Table of FM Allotments under South Carolina, is amended by adding Pendleton, Channel 240A.

4. Section 73.202(b), the Table of FM Allotments under Texas, is amended by adding Hamilton, Channel 299A, and Munday, Channel 270C1.

Federal Communications Commission.
John A. Karousos,
Chief, Allocations Branch, Policy and Rules Division, Mass Media bureau.

[FR Doc. 00-29624 Filed 11-17-00; 8:45 am]

BILLING CODE 6712-01-U